DEPARTMENT OF COMMERCE

National Institute of Standards and Technology

National Artificial Intelligence Advisory Committee

AGENCY: National Institute of Standards and Technology, Department of Commerce.

ACTION: Notice of open meeting.

SUMMARY: The National Institute of Standards and Technology (NIST) announces that the National Artificial Intelligence Advisory Committee (NAIAC or Committee) will hold an open meeting in-person and virtually via web conference on May 2, 2024, from 10:00 a.m.-4:00 p.m. eastern time. The primary purpose of this meeting is for the Committee to report working group findings, identify actionable recommendations, and receive public briefings. The briefings are from outside subject matter experts to the full Committee from areas such as industry, nonprofit organizations, the scientific community, the defense and law enforcement communities, and other appropriate organizations. The final agenda will be posted on the NAIAC Upcoming Meeting Page on the NIST website at https://www.nist.gov/itl/national-artificial-intelligence-advisory-committee-naiac.

DATES: The NAIAC will meet on Thursday, May 2, 2024, from 10:00 a.m.-4:30 p.m. eastern time.

ADDRESSES: The meeting will be held in-person and virtually via web conference from the U.S. Department of Commerce, Herbert C. Hoover Federal Building, located at 1401 Constitution Ave., N.W, Washington, DC 20230. For instructions on how to attend and/or participate in the meeting, please see the SUPPLEMENTARY INFORMATION section of this notice.

FOR FURTHER INFORMATION CONTACT: Cheryl L. Gendron, Designated Federal Officer, Information Technology Laboratory, National Institute of Standards and Technology, Telephone: (301) 975-2785, email address: cheryl.gendron@nist.gov. Please direct any inquiries to the committee at naiac@nist.gov.

SUPPLEMENTARY INFORMATION: Pursuant to the Federal Advisory Committee Act, as amended, 5 U.S.C. 1001 et seq., notice is hereby given that the NAIAC will meet virtually as set forth in the DATES section of this notice. The meeting will be open to the public.

The NAIAC is authorized by section 5104 of the National Artificial Intelligence Initiative Act of 2020 (Pub. L. 116-283), in accordance with the provisions of the Federal Advisory Committee Act, as amended (FACA), 5 U.S.C. 1001 et seq. The Committee advises the President and the National Artificial Intelligence Initiative Office on matters related to the National Artificial Intelligence Initiative. Additional information on the NAIAC is available at ai.gov/naiac/.

The agenda items may change to accommodate NAIAC business. The final agenda will be posted on the NAIAC Upcoming Meeting Page on the NIST website at https://www.nist.gov/itl/national-artificial-intelligence-advisory-committee-naiac.

Comments: Individuals and representatives of organizations who would like to offer comments and suggestions related to items on the Committee's agenda for this meeting are invited to submit comments in advance of the conference. Approximately ten minutes will be reserved for public comments, as time allows, which will be heard on a first-come, first-served basis. Speakers maybe limited to two minutes each. Please note that all comments submitted via email will be treated as public documents and will be made available for public inspection. All comments must be submitted via email with the subject line “May 2, 2024, NAIAC Public Meeting” to naiac@nist.gov by 5 p.m. eastern time, April 30, 2024. NIST will not accept comments accompanied by a request that part or all of the comment be treated confidentially because of its business proprietary nature or for any other reason. Therefore, do not submit confidential business information or otherwise sensitive, protected, or personal information, such as account numbers, Social Security numbers, or names of other individuals.

Virtual Meeting Registration Instructions: The meeting will be broadcast via web conference. Registration is required to view the web conference. Instructions on how to register will be made available at https://www.nist.gov/itl/national-artificial-intelligence-advisory-committee-naiac. Registration will remain open until the conclusion of the meeting.

In-Person Admittance Instruction: Limited space is available on a first-come, first-served basis for anyone who wishes to attend in person. Registration is required for in-person attendance. Registration details will be posted on the NAIAC Upcoming Meeting Page on the NIST website at https://www.nist.gov/itl/national-artificial-intelligence-advisory-committee-naiac. Registration for in-person attendance will close at 5 p.m. Eastern time on Tuesday, April 30, 2024, or if the space is full.

Alicia Chambers,
NIST Executive Secretariat.

[FR Doc. 2024-07924 Filed 4-15-24; 8:45 am]

BILLING CODE 3510-13-P